DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent No. 7,205,520: Portable Air Defense Ground Based Launch Detection System, Navy Case No. 84424//U.S. Patent No. 7,230,221: Portable Air Defense Ground Based Launch Detection System, Navy Case No. 97092.

ADDRESSES: Requests for copies of the inventions cited should be directed to Naval Air Warfare Center Weapons Division, Code 498400D, 1900 N. Knox Road Stop 6312, China Lake, CA 93555-6106 and must include the Navy Case number.

FOR FURTHER INFORMATION CONTACT: Michael D. Seltzer, Ph.D., Head, Technology Transfer Office, Naval Air Warfare Center Weapons Division, Code 498400D, 1900 N. Knox Road Stop 6312, China Lake, CA 93555-6106, telephone 760-939-1074, fax 760-939-1210, e-mail: michael.seltzer@navy.mil.

(Authority: 35 U.S.C. 207, 37 CFR 404.7). Dated June 26, 2006.

Dated: June 27, 2007.
L.R. Almand,
Office of the Judge Advocate General, U.S. Navy, Administrative Law Division, Federal Register Liaison Officer.

[FR Doc. E7-13085 Filed 7-5-07; 8:45 am]

BILLING CODE 3810-FF-P